FEDERAL HOUSING FINANCE BOARD

Sunshine Act Meeting

TIME AND DATE: 2:30 p.m., Wednesday, May 17, 2000.

PLACE: Board Room, Second Floor, Federal Housing Finance Board, 1777 F Street, N.W., Washington, D.C. 20006.

STATUS: The entire meeting will be open to the public.

MATTERS TO BE CONSIDERED DURING PORTIONS OPEN TO THE PUBLIC:

• Final Rule: Election of Federal Home Loan Bank Directors.

• Designation of Federal Home Loan Bank Directors.

• Discussion of Issues Pertaining to the Federal Home Loan Bank Capital Reform.

CONTACT PERSON FOR MORE INFORMATION: Elaine L. Baker, Secretary to the Board, (202) 408-2837.

William W. Ginsberg,
Managing Director.

[FR Doc. 00-12273 Filed 5-11-00; 2:12 pm]

BILLING CODE 6725-01-P